NUCLEAR REGULATORY COMMISSION

[NRC-2015-0245]

Performance Review Boards for Senior Executive Service

AGENCY: Nuclear Regulatory Commission.

ACTION: Appointments.

SUMMARY: On October 27, 2015, the U.S. Nuclear Regulatory Commission (NRC) announced its appointments to the NRC Performance Review Board (PRB) responsible for making recommendations on performance appraisal ratings and performance awards for the NRC Senior Executives and Senior Level System employees, and appointments to the NRC PRB Panel responsible for making recommendations to the appointing and awarding authorities for the NRC PRB members. This notice announces a change in the membership of the Senior Executive Service PRB for the NRC.

DATES: November 25, 2015.

ADDRESSES: Please refer to Docket ID NRC-2015-0245 when contacting the NRC about the availability of information regarding this document. You may obtain publicly-available information related to this document using any of the following methods:

• Federal Rulemaking Web site: Go to http://www.regulations.gov and search for Docket ID NRC-2015-0245. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Miriam L. Cohen, Secretary, Executive Resources Board, U.S. Nuclear Regulatory Commission, Washington, DC 20555; telephone: 301-287-0747, email: Miriam.Cohen@nrc.gov.

SUPPLEMENTARY INFORMATION: On October 27, 2015 (80 FR 65822), the NRC published its list of the NRC PRB appointees as required by the regulation at 5 CFR 430.310. The NRC PRB is responsible for making recommendations to the appointing and awarding authorities on performance appraisal ratings and performance awards for Senior Executives and Senior Level employees. This notice announces the removal of Michael F. Weber, who is unavailable to participate as a member of the PRB.

For the public's convenience, an updated membership list of the PRB is provided.

The following individuals appointed as members of the NRC PRB are responsible for making recommendations to the appointing and awarding authorities on performance appraisal ratings and performance awards for Senior Executives and Senior Level System employees:

Victor M. McCree, Executive Director for Operations

Margaret M. Doane, General Counsel

Cynthia A. Carpenter, Director, Office of Administration

William M. Dean, Director, Office of Nuclear Reactor Regulation

Catherine Haney, Director, Office of Nuclear Material Safety and Safeguards

Michael R. Johnson, Deputy Executive Director for Reactor and Preparedness Programs, Office of the Executive Director for Operations

Nader L. Mamish, Director, Office of International Programs

Cynthia D. Pederson, Regional Administrator, Region III

Glenn M. Tracy, Deputy Executive Director for Materials, Waste, Research, State, Tribal, Compliance, Administration, and Human Capital, Office of the Executive Director for Operations

Maureen E. Wylie, Chief Financial Officer

The following individuals will serve as members of the NRC PRB Panel that was established to review appraisals and make recommendations to the appointing and awarding authorities for NRC PRB members:

Marian L. Zobler, Associate General Counsel for Hearings, Enforcement and Administration, Office of the General Counsel

Brian E. Holian, Director, Office of Nuclear Security and Incident Response

Jennifer L. Uhle, Director, Office of New Reactors

All appointments are made as required by Section 4314 of Chapter 43 of Title 5 of the United States Code.

Dated at Rockville, Maryland, this 12 day of November 2015.
For the Nuclear Regulatory Commission.
Miriam L. Cohen,
Secretary, Executive Resources Board.

[FR Doc. 2015-30026 Filed 11-24-15; 8:45 am]

BILLING CODE 7590-01-P